DEPARTMENT OF ENERGY

Federal Energy Regulatory Commission

18 CFR Parts 347 and 357

[Docket No. RM05-14-000; Order No. 656]

Revision of FERC Form No. 73, Oil Pipeline Data Filing Instructions

Issued May 27, 2005.

AGENCY: Federal Energy Regulatory Commission, DOE.

ACTION: Final rule.

SUMMARY: The Federal Energy Regulatory Commission (Commission) is amending the FERC Form No. 73, Oil Pipeline Service Life Data to allow for filing in an Excel spreadsheet, eliminate the filing requirement for utility codes, which are no longer used by the Commission, and update the filing instructions to delete references to outdated filing formats. These modifications resulted from a review conducted by the Commission's FERC Information Assessment Team (FIAT) of the Commission's current reporting and information collection requirements to evaluate their original purposes and current uses and to propose ways to reduce the reporting burden on industry through the elimination, reduction, streamlining or reformatting of current collections. The information collected on FERC Form No. 73 assists the Commission in the selection of appropriate oil pipeline service lives and book depreciation rates. Some oil pipeline companies use the book depreciation rates to compute their operating expenses for accounting and cost of service purposes.

DATES: Effective: The rule will become effective August 15, 2005.

FOR FURTHER INFORMATION CONTACT: Edward J. Fowlkes (Technical Information), Federal Energy Regulatory Commission, 888 First Street, NE., Washington, DC 20426, (202) 502-8772.

Joseph C. Athey (Technical Information), Federal Energy Regulatory Commission, 888 First Street, NE., Washington, DC 20426, (202) 502-8138.

Andrew L. Lyon (Legal Information), Federal Energy Regulatory Commission, 888 First Street, NE., Washington, DC 20426, (202) 502-8637.

SUPPLEMENTARY INFORMATION:

Before Commissioners: Pat Wood, III, Chairman; Nora Mead Brownell, Joseph T. Kelliher, and Suedeen G. Kelly.

Introduction

1. The Federal Energy Regulatory Commission (Commission or FERC) is revising the “FERC Form No. 73, Oil Pipeline Service Life Data” which is used to collect service life depreciation data from oil pipeline companies.¹ This final rule will allow for filing in an Excel spreadsheet, eliminate the filing requirement for utility codes, which are no longer used by the Commission, and update the filing instructions to delete references to outdated filing formats. These modifications resulted from a review conducted by the Commission's FERC Information Assessment Team (FIAT) of the Commission's current reporting and information collections to evaluate their original purposes and current uses and to propose ways to reduce the reporting burden on industry through the elimination, reduction, streamlining or reformatting of current collections. The Commission's objectives in issuing this rule are to reduce the reporting burden on oil pipeline companies and to make it easier for the Commission to process the data used in the analysis of oil pipeline depreciation rates and service lives.

¹ The revised format for FERC Form No. 73 will not be printed in the Federal Register or the Code of Federal Regualtions. A copy of the revised form, including all instructions to the form, is available for request and review at the Public Reference Room during normal business hours (8:30 a.m. to 5 p.m. Eastern Time), Room 2A, 888 First Street NE., Washington, DC 20426, (202) 502-8371.

Background

2. Commission jurisdiction over oil pipelines was transferred from the Interstate Commerce Commission (ICC) pursuant to sections 305 and 402 of the Department of Energy Organization Act (DOE Act) ² and Executive Order No. 12,009.³ The scope of this Commission's jurisdiction over oil pipelines includes the authority to regulate their rates and charges for the transportation of oil in interstate commerce, and the authority to establish valuations. Section 705(a) of the DOE Act provides that the rules and regulations relating to functions transferred to this Commission will continue in effect until modified by the Commission. Commission regulations governing oil pipeline depreciation accounting for carrier property are set forth in the General Instructions to Title 18 CFR Part 352.⁴

² 42 U.S.C. 7155 nad 7172 (2000).

³ Providing for the Effectuation of the Department of Energy Organization Act, 42 FR 46267 (Sept. 13, 1977).

⁴ Uniform System of Accounts Prescribed for Oil Pipeline Companies Subject to the Provisions of the Interstate Commerce Act.

3. Oil pipeline companies are required to submit depreciation information to the Commission pursuant to 1-8(b)(2) and 1-8(b)(3) of the General Instructions found at 18 CFR Part 352. These instructions require oil pipeline carriers to compute percentage rate studies for their depreciable property accounts, and to maintain records as to the service life and net salvage value of their property and property retirements.

4. The Commission uses the information reported via FERC Form No. 73 to conduct depreciation rate investigations of oil pipelines. The Commission also uses the information to determine appropriate oil pipeline service lives and book depreciation rates.⁵ Oil pipeline companies use book depreciation rates to compute the depreciation portion of their operating expenses when determining their cost of service.

⁵ The definitions for “depreciation” and “service life” are set forth in 18 CFR Part 352.

5. This rule eliminates certain data currently collected from oil pipeline companies by modifying the Filing Instructions to conform to modern data automation formats and oil pipeline identification protocols. The changes associated with FERC Form No. 73 will reduce the amount of time required by Commission Staff to process the data and reduce the reporting burden on affected pipelines.

Discussion

6. The current Filing Instructions request that pipelines submit all data on magnetic computer tape. The revised Filing Instructions eliminate this outdated electronic format. The Commission has eliminated all references to magnetic tape from the filing instructions. In addition, the Commission has added an option to provide FERC Form No. 73 data using an Excel spreadsheet format.

7. The Commission has reduced the Filing Instructions from 20 to 14 pages primarily as a result of the removal of the magnetic tape filing requirements. In addition, the Commission has revised the definitions code sequences for the A1 and S1 Schedule's definitions and reformatted the sample layouts for Schedules A1 and S1 to make them clearer and easier to read. Lastly, the Commission has updated the Filing Instruction's address for submitting completed Form 73's.

8. The Commission is eliminating the requirement to submit utility codes. These codes were used in an analytical model previously used.

Information Collection Statement

9. Office of Management and Budget (OMB) regulations require OMB to approve certain information collection requirements imposed by agency rule.⁶ The Commission solicits comments on the Commission's need for this information, whether the information will have practical utility, the accuracy of provided burden estimates, ways to enhance the quality, utility and clarity of the information to be collected, and any suggested methods for minimizing respondents' burden, including the use of automated information techniques.

⁶ 5 CFR 1320.11.

Estimated Annual Burden

10. The Commission estimates that, on average, it will take respondents 40 hours per response and that approximately two percent of current oil pipelines would experience a change in status justifying a new depreciation schedule in any given year.

11. The estimate contained in the Final Rule for the time necessary to comply with the reporting requirement is an average. While such a submission may take more than 40 hours in some cases, we believe that in most instances compliance will take less time.

Data collection | Number of respondents | Number of hours/response | Number of responses/respondent | Total annual hours
FERC Form 73 | 2 | 40 | 2 | 80

As a result of changes in the Final Rule, we anticipate a burden hour reduction of 30 percent.

Title: Oil Pipeline Data for Depreciation Analysis.

Action: Amend filing instruction requirements.

OMB Control No. 1902-0019.

Respondents: Businesses or other for profit.

Frequency of Responses: On occasion.

Necessity of Information: To satisfy the reporting requirement, the Commission expects respondents to submit a transmittal letter including a description of the oil pipeline facilities' change in status and a narrative explaining whether (and, if so how) this change in status reflects a departure from the characteristics relied upon by the Commission in originally granting oil pipeline companies depreciation schedule changes. This information assists the Commission in its determination of appropriate oil pipeline service lives and book depreciation rates.

Internal review: The Commission has reviewed the proposed amendment to its regulations to establish a reporting obligation for changes in status of oil pipeline facilities and has determined that these regulations are necessary to ensure the accurate calculation of oil pipeline service lives and book depreciation rates. These regulations conform to the Commission's plan for efficient information collection, communication, and management within the oil pipeline industry. The Commission has assured itself, by means of internal review, that there is specific, objective support for the burden estimates associated with the information/data retention requirements.

12. Interested persons may obtain information on the reporting requirements by contacting: Federal Energy Regulatory Commission, 888 First Street, NE., Washington, DC 20426, Attention: Michael Miller, Office of the Executive Director, phone: (202) 502-8415, fax: (202) 273-0873, e-mail: michael.miller@ferc.gov. Comments on the proposed requirements of the subject rule may also be sent to the Office of Information and Regulatory Affairs, Office of Management and Budget, Washington, DC 20503, Attention: Desk Office for the Federal Energy Regulatory Commission, phone: (202) 395-4650.

Environmental Analysis

13. The Commission is required to prepare an Environmental Assessment or an Environmental Impact Statement for any action that may have a significant adverse effect on the human environment.⁷ The Commission has categorically excluded certain actions from this requirement as not having a significant effect on the human environment. Included in the exclusion are rules that are clarifying, corrective, or procedural or that do not substantially change the effect of the regulations being amended.⁸ This final rule is procedural in nature and therefore falls under this exception; consequently, no environmental assessment has been prepared for this rulemaking.

⁷ Regulations Implementing the National Environmental Policy Act, 52 FR 47897 (Dec. 17, 1987), Order No. 486, FERC Stats. & Regs. ¶ 30,783 (1987).

⁸ 18 CFR 380.4(a)(2)(ii).

Regulatory Flexibility Act

14. The Regulatory Flexibility Act of 1980 (RFA) ⁹ generally requires a description and analysis of final rules that will have significant economic impact on a substantial number of small entities. The Commission is not required to make such analyses if a rule would not have such an effect.

⁹ 5 U.S.C. 601-612 (2000).

15. The Commission concludes that the final rule would not have such an impact on small entities. Based on past experience, most of the oil pipelines having changes in status that would likely trigger a filing under the amended regulations would be entities that do not meet the RFA's definition of a small entity.¹⁰ Therefore, the Commission certifies that this final rule will not have a significant economic impact on a substantial number of small entities.

¹⁰ The RFA definition of “small entity” refers to the definition provided in the Small Business Act, which defines a “small business concern” as a business that is independently owned and operated and that is not dominant in its field of operation. 15 U.S.C. 632 (2000). The Small Business Size Standards component of the North American Industry Classification System defines a small pipeline for the transportation of crude oil or refined petroleum products as one that, including its affiliates, for the preceding fiscal year had fewer than 1,500 employees per entity. 13 CFR 121.201 (Section 486, Utilities, North American Industry Classification System, NAICS) (2004).

Document Availability

16. In addition to publishing the full text of this document in the Federal Register, the Commission provides all interested persons an opportunity to view and print the contents of this document via the Internet through the Commission's Home Page (http://www.ferc.gov) and in the Commission's Public Reference Room during normal business hours (8:30 a.m. to 5 p.m. eastern time) at 888 First Street, NE., Room 2A, Washington, DC 20426.

17. From the Commission's Home Page on the Internet, this information is available in eLibrary. The full text of this document is available in eLibrary both in PDF and Microsoft Word format for viewing, printing, and/or downloading. To access this document in eLibrary, type the docket number excluding the last three digits of this document in the docket number field.

18. User assistance is available for eLibrary and the Commission's Web site during our normal business hours. For assistance contact FERC Online Support at FERCOnlineSupport@ferc.gov or toll-free at (866) 208-3676, or for TTY, contact (202) 502-8659. E-mail the Public Reference Room at public.referenceroom@ferc.gov or 202-502-8371.

Administrative Findings and Effective Date

19. The Administrative Procedure Act (APA) ¹¹ requires rulemakings to be published in the Federal Register. The APA also mandates that an opportunity for comment be provided when an agency promulgates regulations. However, notice and comment are not required under the APA when the agency for good cause finds that notice and public procedure thereon are impracticable, unnecessary, or contrary to the public interest.¹² The Commission finds that notice and comment are unnecessary to this rulemaking. As explained above, the Commission is merely clarifying the scope of its regulations regarding the reporting of information on oil pipeline facility service life. This clarification does not change existing law or policy. It merely interprets an existing regulation in order to reduce a filing requirement thereby reducing the reporting burden on the oil pipeline industry. Accordingly, this rule is effective August 15, 2005.

¹¹ 5 U.S.C. 551-559 (2000).

¹² 5 U.S.C. 553b(B) (2000).

Congressional Notification

20. The Commission has determined, with the concurrence of the Administrator, Office of Information and Regulatory Affairs of the Office of Management and Budget, that this rule is not a “major rule” within the meaning of section 251 of the Small Business Regulatory Enforcement Fairness Act of 1996.¹³ The Commission will submit this Final Rule to both houses of Congress and the General Accounting Office.¹⁴

¹³ 5 U.S.C. 804(2) (2000).

¹⁴ 5 U.S.C. 801(a)(1)(A) (2000).

21. These regulations are effective August 15, 2005.

List of Subjects in 18 CFR Parts 347 and 357

Oil pipeline depreciation studies, Data for depreciation studies.

By the Commission.
Linda Mitry,
Deputy Secretary.

[Note: This Appendix will not appear in the Code of Federal Regulations.]

Appendix

Form Approved

OMB No. 1920-0019

(Expires 03/31/05)

Instructions for Filing FERC Form No. 73—Oil Pipeline Service Life Data

The term “Federal Energy Regulatory Commission (FERC)” refers to the FERC or its predecessor the Federal Power Commission (FPC).

Federal Energy Regulatory Commission, Washington, DC 20426 (Form approved: OMB No. 1902-0019, expires 03/31/05).

FERC Form No. 73 Table of Contents

General Information

General Instructions

Schedule A1—Specific Instructions

—Sample Schedule A1

—Definitions

Schedule S1—Specific Instructions

—Sample Schedule S1

—Definitions

Appendix—Transaction Codes

Instructions for Filing Service Life Data—General Information

I. Purpose

During an investigation of an oil pipeline company's book depreciation rates, the Commission requests service life data as a part of its data request. This service life data, which may be initial data or an update to previously existing data, is collected on FERC Form No. 73. The information collected on FERC Form No. 73 is used as an input to assist the Commission in the selection of appropriate oil pipeline company service lives and book depreciation rates.

II. Who Must File

Any oil pipeline company who is directed by the Commission to file service life data during an investigation of the appropriateness of its book depreciation rates.

III. When To Submit

Service life data is reported to the Commission by an oil pipeline company only during a depreciation rate investigation.

IV. What To Submit

The Form No. 73 requires that actuarial or simulation service life data be set forth in a standardized format.

1. If you are not submitting this report in an electronic media format, submit an original and three (3) copies of this report. An Excel spreadsheet is an acceptable format.

2. Upon request of the Commission, the company must submit such additional supporting and clarifying data and information as may be specified.

V. Where To Submit

1. Submit this report to: Office of the Secretary, Federal Energy Regulatory Commission, 888 First Street, NE., Washington, DC 20426.

2. Hand deliveries can be made to: Office of the Secretary, Federal Energy Regulatory Commission, Room 1A, 888 First Street, NE., Washington, DC 20426.

General Instructions

1. Each reporting company may file either actuarial or simulation service life data. If a respondent chooses to file actuarial data, Schedule A1 would be filed. If a respondent chooses to file simulation data, Schedule S1 would be filed. The first or initial filing of service life data by a pipeline company with the Federal Energy Regulatory Commission (whether simulation data or actuarial data) should begin with the first year of company operations or 1940 whichever is later. Subsequent filings of service life data by a respondent pipeline company may contain the transaction data only from the year of the last report to the present.

2. Report all dollar items rounded to the nearest dollar. Commas, decimal points, and special characters should not be used.

3. The “Account Number” as used in this Form No. 73 consists of the three digit account number specified in the Uniform System of Accounts with a suffix of “P” for Product Lines, “C” for Crude Lines, or some other character, specified by the Commission, to designate a system or division of the respondent company. Thus, an account number for purposes of filing the Form No. 73 consists of four characters, three digits followed by one alphabetic character.

The Commission may provide additional special instructions for filing the Form No. 73 requesting a respondent to report service life data in greater detail than specified in the Uniform System of Accounts. In such instances, the respondent will add a one letter suffix, specified by the Commission, to the account number.

• For example, a respondent may be asked to report for its Product Line “Vehicles and Other Work Equipment”, Account 165, by “Vehicles”, with an account designator, “165PV”, and “Other Work Equipment”, with an account designator, “165PE''.

Sources for Codes Used

1. Uniform System of Accounts for Oil Pipeline Companies—See Part 352—Uniform System of Accounts Prescribed for Oil Pipeline Companies, Chapter 1—Federal Energy Regulatory Commission, Title 18, “Code of Federal Regulations''.

2. Transaction Codes—Transaction Codes are listed in the Appendix.

Specific Instructions

Service Life Data (Actuarial) Schedule A1

This schedule is sequenced by Account Number. A new page is started when a change in account occurs and the account name and account number is displayed as the top line in the body of the report.

Data for actuarial analysis of property accounts 102-186 is reported by vintage year from the date of initial operations to the present date. All activity (additions, retirements, transfers, and balances) is reported by Installation Year, Transaction Year, Transaction Code, and Ledger Value. Number of units, gross salvage, and cost of removal should be included where applicable.

Extreme care should be exercised in assigning Transaction Codes to each transaction in order that the analysis of data will produce meaningful results.

Every vintage year must begin with a Transaction Code “00”, “11”, “12”, “13”, “30”, or “51”. An entry will be made for each year following the vintage year in which some activity occurred for this account, (e.g., addition, retirement, etc.) listing the appropriate Transaction Code for the activity. Every vintage year must terminate with a Transaction Balance Code, “99”.

In reporting Installation Year, Transaction Year, and Corrected Transaction Year, no date prior to 1940 is acceptable. For a respondent's initial report, a 1940 transaction year, “00” Transaction Code, may be used to report the net balance of property in service as of December 31, 1939. If a respondent commenced operations after 1940, in the initial filing of the Form No. 73, the respondent should report a Transaction Code “00” for the net balance of property in service as December 31 of the year preceding the year of commencement of operations. For a respondent's Update Report, each vintage will begin with an initial balance, Transaction Code “00”, which should correspond to the ending balance, Balance Code “99”, reported on the previous filing of the Form No. 73.

Installation Year, Transaction Year, Transaction Code, and Ledger Value must be reported for each transition. Unreported fields should be left blank.

Negative numbers must not be used except when “Corrected Transaction Year” field is used. If the “Corrected Transaction Year” field is used, Units, Ledger Value, Gross Salvage Value, and Cost of Removal may be negative as necessary to make corrections.

Schedule A1.—Service Life Data
| (a) Pipeline Company Name: xxxxxxxxxxx |  |  |  | (b) Schedule A1 (c) Page xxx
| (d) From January 1, xxxx (e) to December 31, xxxx
(f) Account Number: xxxx | (g) Account Name: xxxxxxxxxxxxxxx
Installation Year | Transaction Year | Corrected Transaction Year | Transaction Code | Number of Units | Ledger Value | Gross Salvage | Cost of Removal
(h) | (i) | (j) | (k) | (l) | (m) | (n) | (o)
xxxx | xxxx | xxxx | xx | xxxxxxxx | xxxxxxxx | x xxxx | xxxxxxxx

Definitions of Items Contained on Schedule A1
Schedule reference | Item name | Definition—Description
(a) | Pipeline Company Name | Name of pipeline filing report.
(b) | Schedule ID | Form Number A1.
(c) | Page Number | Sequential page numbers as needed.
(d) | Start Date | The beginning year for the service life data reported. The year will be reported as a four digit number and will be 1940 or later.
(e) | End Date | The ending year for the service life data being reported. The year will be reported as a four digit number.
(f) | FERC Account Number | Uniform System of Accounts number associated with the service life data reported on this page with appropriate suffix as specified in the general instructions.
(g) | FERC Account Name | Uniform System of Accounts name associated with the service life data reported on this page.
(h) | Installation Year | The year the property was first placed in service by the reporting carrier.
(i) | Transaction Year | The year of the particular transaction being recorded by this entry; must be equal to or greater than the installation year.
(j) | Corrected Transaction Year | For corrections of previous entries only. The year of the correction is the transaction year. This field is the year that is being corrected. Appropriate corrections (+ or −) are recorded in the units, ledger value, gross salvage, and cost of removal fields to properly correct the erroneous entry. Transaction Codes must be the same as the entry corrected.
(k) | Transaction Code | The type of transaction being recorded. (See Transaction Codes in the Appendix).
(l) | Number of Units | Number of physical units associated with a transaction.
(m) | Ledger Value | Ledger value of property involved in a transaction.
(n) | Gross Salvage | The actual dollars of salvage recovered upon retirement or disposition of an asset, including insurance proceeds.
(o) | Cost of Removal | Total cost to dispose of property and to restore environment as required.

Specific Instructions

Service Life Data (Simulation) Schedule S1

This schedule is sequenced by Account Number. A new page is started when a change in account occurs and the account name and account number is displayed as the top line in the body of the report.

Data for Simulated Plant Record (SPR) analysis of oil pipeline property accounts 102-186 is reported for each year from the date of initial operation to the present date using the appropriate “Transaction Codes”.

Extreme care should be exercised in assigning Transaction Codes to each transaction in order that the analysis of data will produce meaningful results.

In reporting activity for each account, a Transaction Year, Transaction Code and a Ledger Value must be reported for each transaction activity. A Transaction Year prior to 1940 is not acceptable. For a respondent's initial report, a 1940 Transaction Year, “00” Transaction Code, may be used to report the net balance of property in service as of December 31, 1939. If a respondent commenced operations after 1940, in the initial filing of the Form No. 73, the respondent should report a Transaction Code “00” for the balance of property in service as December 31 of the year preceding the year of commencement of operations. For respondent's initial report with a Transaction Year later than 1940, the net balance of property in service should be as of December 31 of the preceding year. For a respondent's Update Report, each account will begin with an initial balance, Transaction Code “00”, which should correspond to the ending balance, Transaction Code “99”, reported on the previous filing of the Form No. 73.

Each account must have a transaction year with a Transaction Code, “99”, which must equal the balance in the FERC Form No. 6, Annual Report of Oil Pipeline Companies.

Negative numbers should not be used in any field. Each Transaction Year must have an applicable transaction installation code or transaction retirement code.

Schedule S1.—Service Life Data
| (a) Pipeline Company Name: xxxxxxxxxxxxx | (b) Schedule S1 (c) Page xxxx
| (d) From January 1, xxxx to (e) December 31, xxxx
(f) Account Number: xxxx | (g) Account Name: xxxxxxxxxxxxxxxxxxxxxxxxx
Transaction Year | Transaction Code | Ledger Value
(h) | (i) | (j)
xxxx | xx | xxxxxxxxxxxx

Definitions of Items Contained on Schedule S1
Schedule reference | Item name | Definition—description
(a) | Pipeline Company Name | Name of pipeline filing report.
(b) | Schedule ID | Form Number S1
(c) | Page Number | Sequential page numbers as needed.
(d) | Start Date | The beginning year for the service life data reported. The year will be reported, as a four digit number and will be 1940 or later.
(e) | End Date | The ending year for the service life data being reported. The year will be reported as a four digit number.
(f) | FERC Account Number | Uniform System of Accounts number associated with the service life data reported on this page with appropriate suffix as specified in the general instructions.
(g) | FERC Account Name | Uniform System of Accounts name associated with the service life data reported on this page.
(h) | Transaction Year | The year of the particular transaction being recorded by this entry; must be equal to or greater than the installation year.
(i) | Transaction Code | The type of transaction being recorded. (See Transaction Codes in the Appendix).
(j) | Ledger Value | Ledger value of property involved in a transaction.

Appendix

Definition—This Item Identifies the Acceptable Transaction Codes Which are Reported for Each Transaction
Transaction code | Transaction title | Transaction type—Description
00 | Initial Balance | Installation—net balance of property in service as of December 31 of the year prior to the start date (See Definition of Items for Schedule S1 or A1).
11 | New | Installation—placement of property in service. These codes distinguish the condition of the property when it is added. A vintage year must begin with one of the following codes: 00, 11, 12, 13, 30 or 51.
12 | Second Hand
13 | Reconditioned (See code 65)
30 | Acquisition | Installation—property acquired from another operation carrier to be continued in the same or similar type of service. Acquisitions may occur as the result of mergers, consolidations, pooling of interests, or purchase of another company or portion thereof.
51 | Transfer In | Transfer resulting in an increase of investment in an account with a concurrent decrease in another depreciable account with the company or an affiliated company. Opposite of a Transfer Out.
52 | Transfer Out | Transfer—the removal of property from a depreciable account and concurrent reassignment of that property to another account in the company or an affiliated company. The reason for a Transfer Out may be a reclassification or a change in operations. No salvage entries are allowed for this code.
61 | Regular | Retirement—all retirements which occur in the course of normal operations for any cause other than those listed herein.
62 | Reimbursed | Retirement—a retirement of property for which the company is compensated fully at the time of retirement through insurance or by public authority as a result of negotiations.
63 | Sale | Retirement—a retirement in which “going concern” property is sold for reuse to another organization for continuation of service. Sales at the end of life or because the property is no longer useful for normal transportation purposes are Regular Retirements (Code 61).
64 | Outlier | Retirement—a retirement which reflects a highly improbable occurrence should be classified as an outlier if the situation under which the retirement occurred can be documented as being exceptionally unusual.
65 | Reconditioned | Retirement—retirement for the purpose of reconditioning the asset for further transportation service when the reconditioning is performed by the company or an affiliated company. The property is reentered into service coded 13 (Reconditioned).
81 | + Adjustment | Adjustment—adjustment codes should be used only with FERC approval. Entries to correct past errors or omissions are not considered to be adjustments and should be corrected by use of the “Corrected Transaction Year” field.
82 | −Adjustment
99 | Balance | Balance—balance in service as of December 31 of the End Date (See Definitions of Items for Schedule A1 or S1). No salvage entries are permitted for this code.

[FR Doc. 05-11550 Filed 6-13-05; 8:45 am]

BILLING CODE 6717-01-P